DEPARTMENT OF VETERANS AFFAIRS

Agency Information Collection Activity: Approval for Collection of Information for the Planning and Execution of National and Regional Veterans Day Observations

AGENCY: National Veterans Outreach Office (NVO), Department of Veterans Affairs (VA).

ACTION: Notice.

SUMMARY: The National Veterans Outreach Office of the U.S. Department of Veterans Affairs (VA) is announcing an opportunity for public comment on the agency's proposed collection of certain information. Under the Paperwork Reduction Act (PRA) of 1995, Federal agencies are required to publish notice in the Federal Register concerning each proposed collection of information, including each proposed extension of a currently approved collection, and allow 60 days for public comment in response to the notice.

DATES: Written comments and recommendations for the proposed information collection should be sent within 30 days of publication of this notice to www.reginfo.gov/public/do/PRAMain. Find this particular information collection by selecting “Currently under 30-day Review—Open for Public Comments” or by using the search function. Refer to “2900-0921”.

FOR FURTHER INFORMATION CONTACT: Maribel Aponte, Office of Enterprise and Integration, Data Governance Analytics (008), 810 Vermont Ave. NW, Washington, DC 20006, (202) 266-4688 or email Maribel.Aponte@va.gov. Please refer to “2900-0921” in any correspondence.

SUPPLEMENTARY INFORMATION:

Authority: 44 U.S.C. 3501-21. Under the PRA of 1995 (Pub. L. 104-13; 44 U.S.C. 3501-3521), Federal agencies must obtain approval from the Office of Management and Budget (OMB) for each collection of information they conduct or sponsor. This request for comment is being made pursuant to section 3506(c)(2)(A) of the PRA. With respect to the following collection of information, NVO invites comments on: (1) whether the proposed collection of information is necessary for the proper performance of NVO's functions, including whether the information will have practical utility; (2) the accuracy of NVO's estimate of the burden of the proposed collection of information; (3) ways to enhance the quality, utility, and clarity of the information to be collected; and (4) ways to minimize the burden of the collection of information on respondents, including through the use of automated collection techniques or the use of other forms of information technology.

Title: National and Regional Veterans Day Planning Collection.

OMB Control Number: 2900-0921.

Type of Review: Approval of a proposed collection.

Abstract: The National Veterans Outreach Office is the VA team that plans and executes the National Veterans Day Observance. VA Forms 0918d, 0918e, 0918f, and 0918g are the instruments of collection for this activity. The information collected is used to collaborate with regional partners and select VA-approved Veterans Day observances across the country; evaluate Veteran-serving organizations for potential membership onto the Veterans Day National Committee; collect annual dues from Veterans Day National Committee members, per the committee's bylaws; and determine the number of custom Veterans Day lapel pins, National Observance invitations and bench seat tickets are required by each Veterans Day National Committee member organization. The collection requires the public to provide only the information necessary to support the planning efforts.

An agency may not conduct or sponsor, and a person is not required to respond to a collection of information unless it displays a currently valid OMB control number. The Federal Register Notice with a 60-day comment period soliciting comments on this collection of information was published at

Affected Public: State and local governments; Veteran-serving non-profit organizations.

Estimated Annual Burden: 28 hours.

Estimated Average Burden per Respondent: 11 minutes.

Frequency of Response: On occasion.

Estimated Number of Respondents: 158.

By direction of the Secretary.
Maribel Aponte,
VA PRA Clearance Officer, Office of Enterprise and Integration/Data Governance Analytics, U.S. Department of Veterans Affairs.

[FR Doc. 2023-12703 Filed 6-13-23; 8:45 am]

BILLING CODE 8320-01-P